DEPARTMENT OF AGRICULTURE

Animal and Plant Health Inspection Service

9 CFR Part 94

[Docket No. 01-041-1]

Change in Disease Status of Estonia With Regard to Rinderpest and Foot-and-Mouth Disease

AGENCY: Animal and Plant Health Inspection Service, USDA.

ACTION: Proposed rule.

SUMMARY: We are proposing to amend the regulations to add Estonia to the list of regions that are considered free of rinderpest and foot-and-mouth disease. We are taking this action because we have determined that Estonia is free of rinderpest and foot-and-mouth disease. We are also proposing to add Estonia to the list of regions that are subject to certain import restrictions on meat and meat products because of their proximity to or trading relationships with rinderpest-or foot-and-mouth disease-affected countries. These actions would update the disease status of Estonia with regard to rinderpest and foot-and-mouth disease while continuing to protect the United States from an introduction of those diseases by providing additional requirements for any meat and meat products imported into the United States from Estonia.

DATES: We invite you to comment on this docket. We will consider all comments we receive that are postmarked, delivered, or e-mailed by April 2, 2002.

ADDRESSES: You may submit comments by postal mail/commercial delivery or by e-mail. If you use postal mail/commercial delivery, please send four copies of your comment (an original and three copies) to: Docket No. 01-041-1, Regulatory Analysis and Development, PPD, APHIS, Station 3C71, 4700 River Road Unit 118, Riverdale, MD 20737-1238. Please state that your comment refers to Docket No. 01-041-1. If you use e-mail, address your comment to regulations@aphis.usda.gov. Your comment must be contained in the body of your message; do not send attached files. Please include your name and address in your message and “Docket No. 01-041-1” on the subject line.

You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Dr. Hatim Gubara, Staff Veterinarian, Regionalization Evaluation Services Staff, VS, APHIS, 4700 River Road Unit 38, Riverdale, MD 20737-1231; (301) 734-5875.

SUPPLEMENTARY INFORMATION:

Background

The regulations in 9 CFR part 94 (referred to below as the regulations) govern the importation of certain animals and animal products into the United States in order to prevent the introduction of various diseases, including rinderpest, foot-and-mouth disease (FMD), African swine fever, hog cholera, and swine vesicular disease. These are dangerous and destructive communicable diseases of ruminants and swine. Section 94.1 of the regulations lists regions of the world that are declared free of rinderpest or free of both rinderpest and FMD. Rinderpest or FMD exists in all other parts of the world not listed. Section 94.11 of the regulations lists regions of the world that have been determined to be free of rinderpest and FMD, but that are subject to certain restrictions because of their proximity to or trading relationships with rinderpest-or FMD-affected regions.

In June 1999, the Animal and Plant Health Inspection Service (APHIS) received a request from Estonia's Veterinary and Food Board to recognize Estonia as free of FMD. In response to that request, and based on our review of supporting documentation accompanying the request and information obtained during a site visit, we are proposing to recognize Estonia as free of FMD. In addition, because rinderpest has never been diagnosed in Estonia and is not endemic to that region of the world, we are also proposing to recognize Estonia as free of rinderpest. Finally, we are proposing to add Estonia to the list of rinderpest- and FMD-free regions whose exports of ruminant and swine meat and products to the United States are subject to certain restrictions to ensure against the introduction of those diseases into this country.

Based on the information submitted to us by the Government of Estonia, we have reviewed and analyzed the animal health status of Estonia relative to FMD. Our review and analysis were conducted in light of the factors identified in 9 CFR 92.2, “Application for recognition of the animal health status of a region,” which are used to determine the level of risk associated with importing animals or animal products into the United States from a given region. Based on the information submitted to us, we have concluded the following:

Veterinary infrastructure. The veterinary services authorities in Estonia have the legal authority, organization, and infrastructure to detect, control, and eradicate FMD. Estonia's veterinary services are organized under the Veterinary and Food Board and include approximately 209 authorized veterinarians employed by the government, 841 private veterinarians, 43 laboratory veterinarians, and a number of trained technicians. Authorized veterinarians are distributed among 15 districts within Estonia, each of which falls under the supervision of a District Veterinary Officer (DVO). Each DVO reports directly to the Director General of the Central Veterinary Office. In the event of an animal disease emergency, the Minister of Agriculture delegates authority to the Veterinary and Food Board to implement control measures. The Veterinary and Food Board has the authority to call on private veterinary practitioners, police, and local authorities to provide support to the Central Veterinary Office in depopulating infected premises, disposing of animal carcasses, and controlling and restricting animal movements.

Disease history and surveillance. The last outbreak of FMD in Estonia occurred in 1982 and was traced to its origin in Latvia. Although Estonia has been declared free of FMD by the Office of International des Epizooties (OIE), an active surveillance program continues to be carried out by the Government of Estonia through the testing and monitoring of all herds for FMD.

Diagnostic capabilities. Estonia has the authority, personnel, and diagnostic capabilities to test herds for, and diagnose, FMD. Government-operated laboratories in Estonia work in close contact with international laboratories to confirm diagnoses and type-specific foreign animal pathogens.

Vaccination status. Vaccination against FMD is neither permitted nor practiced in Estonia. Emergency vaccination against FMD may be undertaken at the discretion of the Minister of Agriculture in the event of a risk of an extensive outbreak of the disease. Emergency vaccination against FMD was last implemented during the outbreak of FMD in 1982.

Disease status of adjacent regions. Estonia shares land borders with Latvia and Russia, neither of which is recognized by APHIS as being free of FMD. Estonia is also located south of Finland across the Baltic Sea and the Gulf of Finland. Finland is recognized by APHIS as being free of FMD.

Degree of separation from adjacent regions. Estonia is sufficiently separated from regions of higher risk by numerous lakes and extensive forest and woodland areas located throughout the country.

Movement across borders. The movement of animals and animal products into Estonia from regions of higher disease risk is strictly controlled. Estonia has 20 animal inspection border posts located in Estonia with a veterinarian on duty at each to perform health examinations of live animals and inspect animal products. All live animals and animal products imported into Estonia require an animal health permit issued by a DVO.

Estonia does not permit the importation of live animals from Latvia, and does not permit the importation of live animals or animal products from Russia. Competition horses, however, are allowed to enter Estonia from Latvia and Russia when accompanied by the appropriate transit permits and health certificates.

Livestock demographics and marketing practices. Estonia has a total of 271,883 head of cattle, 304,000 pigs, 21,250 sheep, 1,116 goats, 2.43 million poultry, and 5,100 horses. The DVOs maintain an adequate system for identifying and tracking cattle and swine herds. There is no known feature of livestock production in the country that increases the risk of disease spread.

Detection and eradication of disease. FMD is a compulsorily notifiable disease in Estonia. The veterinary services in Estonia possess the authority, diagnostic capability, and personnel to rapidly detect, contain, and eradicate any incursion of FMD that might occur.

These findings are described in further detail in a qualitative evaluation that may be obtained by contacting the person listed under FOR FURTHER INFORMATION CONTACT. This evaluation may also be viewed on the Internet at http://www.aphis.usda.gov/vs/reg-request.html by following the link for current requests and supporting documentation. The qualitative evaluation documents the factors that have led us to conclude that Estonia is free of FMD. As noted previously, rinderpest has never occurred in Estonia and is not endemic to Eastern Europe. Therefore, we are proposing to recognize Estonia as free of rinderpest and FMD and add the country to the list in § 94.1(a)(2) of regions that are considered free of rinderpest and FMD.

These proposed actions would relieve certain restrictions due to FMD and rinderpest on the importation into the United States of certain live animals and animal products from Estonia. However, because Estonia shares common land borders with countries not considered free of rinderpest and FMD, the importation of meat and other products from ruminants and swine into the United States from Estonia would continue to be subject to certain restrictions.

Specifically, we are proposing to add Estonia to the list in § 94.11(a) of regions declared free of rinderpest and FMD but that are subject to special restrictions on the importation of their meat and other animal products into the United States. The regions listed in § 94.11(a) are subject to these special restrictions because they: (1) Supplement their national meat supply by importing fresh (chilled or frozen) meat of ruminants or swine from regions that are designated in § 94.1(a) as regions where rinderpest or FMD exists, (2) have a common land border with regions where rinderpest or FMD exists, or (3) import ruminants or swine from regions where rinderpest or FMD exists under conditions less restrictive than would be acceptable for importation into the United States.

Estonia has common land borders with countries not considered free of FMD. As a result, there is some risk that the meat and other animal products produced by Estonia could be commingled with the fresh (chilled or frozen) meat of animals from a region in which FMD exists and present an undue risk of introducing FMD into the United States if imported without restriction.

Under § 94.11, meat and other animal products of ruminants and swine, including ship stores, airplane meals, and baggage containing these meat or animal products, may not be imported into the United States except in accordance with § 94.11 and the applicable requirements of the USDA's Food Safety and Inspection Service at 9 CFR chapter III.

Section 94.11 generally requires that the meat and other animal products of ruminants and swine be: (1) Prepared in an inspected establishment that is eligible to have its products imported into the United States under the Federal Meat Inspection Act; and (2) accompanied by an additional certificate, issued by a full-time salaried veterinary official of the national government of the exporting region, assuring that the meat or other animal products have not been commingled with or exposed to meat or other animal products originating in, imported from, transported through, or that have otherwise been in a region where rinderpest or FMD exists.

Executive Order 12866 and Regulatory Flexibility Act

This proposed rule has been reviewed under Executive Order 12866. For this action, the Office of Management and Budget has waived its review process required by Executive Order 12866.

We are proposing to amend the regulations by adding Estonia to the list of regions that are considered free of rinderpest and FMD. We are taking this action because we have determined that Estonia is free of rinderpest and FMD. We are also proposing to add Estonia to the list of regions that are subject to certain restrictions because of their proximity to or trading relationships with rinderpest-or FMD-affected countries. These actions would update the disease status of Estonia with regard to rinderpest and FMD while continuing to protect the United States from an introduction of those diseases by providing additional requirements for any meat and meat products imported into the United States from Estonia.

The following analysis addresses the potential economic effects of this proposed rule on small entities, as required by the Regulatory Flexibility Act.

Currently, Estonia is not included in the list of regions that are considered free of rinderpest and FMD. This proposal would add Estonia to the list of regions that are considered free of rinderpest and FMD and add the country to the list of regions subject to certain restrictions because of their proximity to or trading relationships with rinderpest-or FMD-affected countries. This proposed rule would allow for the importation into the United States of ruminants and swine and any fresh (chilled or frozen) meat or other products of any ruminant or swine from Estonia under certain restrictions.

We do not expect that this proposed rule would have a significant economic impact on any entities, large or small, in the United States. Estonia does not produce sufficient quantities of ruminants or swine, or products of ruminants or swine, to significantly affect the U.S. market even if all of Estonia's production were exported to the United States.¹ For example, Estonia's production of beef and veal, mutton and lamb, and pigmeat (51,120 metric tons) was equivalent to less than 0.5 percent of those commodities produced in the United States in 2001. During the same period, Estonia's stock of live cattle, sheep, and pigs (585,200 head) was equivalent to less than 0.5 percent of comparable stock in the United States. Similarly, Estonia's milk production (690,000 metric tons) was less than 1 percent of the total production of milk in the United States in 2001.²

¹ Realistically, not all of Estonia's production would be exported to the United States. Some of Estonia's production would be consumed domestically and some would be exported to countries other than the United States.

² Source: Food and Agriculture Organization of the United Nations.

Small Entity Impact

The Regulatory Flexibility Act requires that agencies consider the economic effects of their rules on small entities. Given the small amount of Estonia's production, domestic producers in the United States are unlikely to be affected in any measurable way. Other entities that might be affected are brokers, agents, and others in the United States who would become involved in any future importation and sale of ruminants or swine or products of ruminants or swine from Estonia. The number and size of those entities is unknown, but it is reasonable to assume that most of those entities would be small according to the standards set by the U.S. Small Business Administration. However, for the reasons discussed above, any economic impact on those entities, as well as any other affected entities in the United States, should be minimal.

Under these circumstances, the Administrator of the Animal and Plant Health Inspection Service has determined that this action would not have a significant economic impact on a substantial number of small entities.

Executive Order 12988

This proposed rule has been reviewed under Executive Order 12988, Civil Justice Reform. If this proposed rule is adopted: (1) All State and local laws and regulations that are inconsistent with this rule will be preempted; (2) no retroactive effect will be given to this rule; and (3) administrative proceedings will not be required before parties may file suit in court challenging this rule.

Paperwork Reduction Act

This proposed rule contains no information collection or recordkeeping requirements under the Paperwork Reduction Act of 1995 (44 U.S.C. 3501 et seq.).

List of Subjects in 9 CFR Part 94

Animal disease, Imports, Livestock, Meat and meat products, Milk, Poultry and poultry products, Reporting and recordkeeping requirements.

Accordingly, we propose to amend 9 CFR part 94 as follows:

PART 94—RINDERPEST, FOOT-AND-MOUTH DISEASE, FOWL PEST (FOWL PLAGUE), EXOTIC NEWCASTLE DISEASE, AFRICAN SWINE FEVER, HOG CHOLERA, AND BOVINE SPONGIFORM ENCEPHALOPATHY: PROHIBITED AND RESTRICTED IMPORTATIONS

1. The authority citation for part 94 would continue to read as follows:

Authority: 7 U.S.C. 450, 7711, 7712, 7713, 7714, 7751, and 7754; 19 U.S.C. 1306; 21 U.S.C. 111, 114a, 134b, 134c, 134f, 136, and 136a; 31 U.S.C. 9701; 42 U.S.C. 4331 and 4332; 7 CFR 2.22, 2.80, and 371.4.

§ 94.1 [Amended]

2. In § 94.1, paragraph (a)(2) would be amended by adding, in alphabetical order, the word “Estonia,”.

§ 94.11 [Amended]

3. In 94.11, paragraph (1), the first sentence would be amended by adding, in alphabetical order, the word “Estonia,”.

Done in Washington, DC, this 28th day of January 2002.
W. Ron DeHaven,
Acting Administrator, Animal and Plant Health Inspection Service.

[FR Doc. 02-2493 Filed 1-31-02; 8:45 am]

BILLING CODE 3410-34-U